FEDERAL COMMUNICATIONS COMMISSION

47 CFR Part 73

[DA 00-2363; MM Docket No. 00-92; RM-9857]

Radio Broadcasting Services; Livingston and Dos Palos, CA

AGENCY: Federal Communications Commission.

ACTION: Final rule.

SUMMARY: In response to a proposal filed on behalf of All American Broadcasting, Inc., the Commission reallots Channel 240A from Livingston to Dos Palos, California, as that community's first local aural transmission service, and modifies the license for Station KNTO accordingly, pursuant to the provisions of Section 1.420(i) of the Commission's Rules. See 65 FR 36652, June 9, 2000. Coordinates used for Channel 240A at Dos Palos are 37-04-03 NL and 120-44-52 WL.

DATES: Effective December 11, 2000.

FOR FURTHER INFORMATION CONTACT: Nancy Joyner, Mass Media Bureau, (202) 418-2180.

SUPPLEMENTARY INFORMATION: This is a synopsis of the Commission's Report and Order, MM Docket No. 00-92, adopted October 11, 2000, and released October 20, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

47 CFR PART 73—[AMENDED]

1. The authority citation for part 73 continues to read as follows:

Authority: 47 U.S.C. 154, 303, 334, 336.

§ 73.202 [Amended]

2. Section 73.202(b), the Table of FM Allotments under California, is amended by adding Dos Palos, Channel 240A.

3. Section 73.202(b), the Table of FM Allotments under California, is amended by removing Livingston, Channel 240A.

Federal Communications Commission.
John A. Karousos,
Chief, Allocations Branch, Policy and Rules Division, Mass Media Bureau.

[FR Doc. 00-28882 Filed 11-9-00; 8:45 am]

BILLING CODE 6712-01-P